DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

James C. Lin, Ph.D., University of Illinois at Chicago: Based on the findings from an inquiry by the University of Illinois at Chicago (UIC) and on additional analysis conducted by ORI during its oversight review, the U.S. Public Health Service (PHS) found that James C. Lin, Ph.D., Professor, Department of Electrical and Computer Engineering, Physiology, and Biophysics, UIC, engaged in research misconduct concerning National Institute of Neurological Disorders and Stroke (NINDS), National Institutes of Health (NIH), grant application 1 R01 NS47238-01, “Blood-Brain Barrier Interactions of Cellular-Phone Radi.”

Specifically, PHS found that Dr. Lin committed research misconduct relative to the legend and related text for Figure 2 (data from a colleague on other experiments) for his NIH application 1 R01 NS47238-01, by falsely claiming the figure represented preliminary results of his independent experiments that differed from the source of the figure and the prior research in the field, in which he purported to have selectively exposed the rat's head to microwave irradiation, to have utilized higher peak exposure, of shorter duration and of different radio frequencies, and which reported injury of more acute nature to the blood barrier.

Dr. Lin denies all allegations of research misconduct and contends that some of his original data is missing as a result of the involuntary relocation of his laboratory. Dr. Lin makes no admission of guilt in connection with the charges or PHS' findings of research misconduct herein. Both Dr. Lin and PHS are desirous of concluding this matter without further expense of time and other resources.

Dr. Lin has entered into a Voluntary Exclusion Agreement in which he has voluntarily agreed, for a period of three (3) years, beginning on October 24, 2006:

(1) That any institution which submits an application for PHS support for a research project on which Dr. Lin's participation is proposed or which uses him in any capacity on PHS supported research, or that submits a report of PHS-funded research in which Dr. Lin is involved, must concurrently submit a plan for supervision of Dr. Lin's duties to the funding agency for approval. The supervisory plan must be designed to ensure the scientific integrity of his research contribution. Dr. Lin agrees to ensure that a copy of the supervisory plan also is submitted to ORI by the institution. He also agrees that he will not participate in any PHS-supported research until such a supervision plan is submitted to ORI;

(2) that any institution employing Dr. Lin submit in conjunction with each application for PHS funds or reports, manuscripts, or abstracts of PHS-funded research in which Dr. Lin is involved a certification that the data provided by Dr. Lin are based on actual experiments or are otherwise legitimately derived and that the data, procedures, and methodology are accurately reported in the application or report. Dr. Lin must ensure that the institution also sends a copy of the certification to ORI; and

(3) to exclude himself from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E6-19889 Filed 11-22-06; 8:45 am]

BILLING CODE 4150-31-P